DEPARTMENT OF COMMERCE

National Oceanic and Atmospheric Administration

[RTID 0648-XC660]

Marine Mammals; File No. 22156

AGENCY: National Marine Fisheries Service (NMFS), National Oceanic and Atmospheric Administration (NOAA), Commerce.

ACTION: Notice; receipt of application for permit amendment.

SUMMARY: Notice is hereby given that Douglas Nowacek, Ph.D., Nicholas School of the Environment, Duke University Marine Laboratory, 135 Duke Marine Lab Rd, Beaufort, NC 28516, has applied for an amendment to Scientific Research Permit No. 22156-02.

DATES: Written, telefaxed, or email comments must be received on or before February 13, 2023.

ADDRESSES: The application and related documents are available for review by selecting “Records Open for Public Comment” from the “Features” box on the Applications and Permits for Protected Species (APPS) home page, https://apps.nmfs.noaa.gov, and then selecting File No. 22156 mod No. 8 from the list of available applications. These documents are also available upon written request via email to NMFS.Pr1Comments@noaa.gov.

Written comments on this application should be submitted via email to NMFS.Pr1Comments@noaa.gov. Please include File No. 22156 mod 9 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, Ph.D., (301) 427-8401.

SUPPLEMENTARY INFORMATION: The subject amendment to Permit No. 22156-02 is requested under the authority of the Marine Mammal Protection Act of 1972, as amended (16 U.S.C. 1361 et seq.) and the regulations governing the taking and importing of marine mammals (50 CFR part 216).

Permit No. 22156, issued on May 8, 2020, (85 FR 35637), authorizes the permit holder to conduct research on 31 cetacean species in U.S. and international waters of the North Atlantic Ocean. Species include endangered blue (Balaenoptera musculus), fin (B. physalus), sei (B. borealis), and sperm (Physeter macrocephalus) whales. The purpose of the research is to study variation in cetacean behavior, foraging ecology, body condition, health status, population structure, and use of and response to sounds. The permit authorizes surveys by vessel and an unmanned aircraft system (UAS) to approach, count, observe, photograph, remotely measure, and track cetaceans. During surveys, researchers may conduct acoustic playback trials, collect biological samples, and tag animals, with some species receiving two tags at a time. Non-target cetaceans in the vicinity of research may be unintentionally harassed. Biological samples collected in international waters may be imported into the United States and cell lines may be developed from tissue samples. Two minor amendments to the permit were issued to update biopsy sampling mitigation measures (Permit No. 22156-01; January 29, 2021) and expand the use of UAS to all authorized species (Permit No. 22156-02; May 23, 2022). The permit holder is requesting the permit be amended to include authorization to temporarily mark adult and juvenile short-finned pilot whales (Globicephala macrorhynchus) and bottlenose dolphins (Tursiops truncatus) with paintballs to investigate how social marine mammals coordinate dive patterns. Take numbers for these species would not increase. The amendment would be valid for the duration of the permit, until May 31, 2025.

A draft environmental assessment (EA) has been prepared in compliance with the National Environmental Policy Act of 1969 (42 U.S.C. 4321 et seq.), to examine whether significant environmental impacts could result from issuance of the proposed amendment to the scientific research permit. The draft EA is available for review and comment simultaneous with the scientific research permit amendment application.

Concurrent with the publication of this notice in the Federal Register, NMFS is forwarding copies of this application to the Marine Mammal Commission and its Committee of Scientific Advisors.

Dated: January 6, 2023.
Amy Sloan,
Acting Chief, Permits and Conservation Division, Office of Protected Resources, National Marine Fisheries Service.

[FR Doc. 2023-00502 Filed 1-11-23; 8:45 am]

BILLING CODE 3510-22-P